DEPARTMENT OF TRANSPORTATION

Federal Aviation Administration

14 CFR Part 39

[Docket No. FAA-2005-21088; Directorate Identifier 2004-NM-267-AD; Amendment 39-14215; AD 2005-16-10]

RIN 2120-AA64

Airworthiness Directives; Boeing Model 747-400 and 747-400D Series Airplanes

AGENCY: Federal Aviation Administration (FAA), Department of Transportation (DOT).

ACTION: Final rule.

SUMMARY: The FAA is adopting a new airworthiness directive (AD) for certain Boeing Model 747-400 and 747-400D series airplanes. This AD requires an inspection for corrosion and cracks of the station 980 upper deck floor beam, and repair and related investigative actions if necessary. This AD results from reports of corrosion under the cart lift threshold at the station 980 upper deck floor beam. We are issuing this AD to detect and correct such corrosion, which could result in a cracked or broken floor beam, extensive damage to adjacent structure, and possible rapid decompression of the airplane.

DATES: Effective September 13, 2005.

The Director of the Federal Register approved the incorporation by reference of a certain publication listed in the AD as of September 13, 2005.

ADDRESSES: You may examine the AD docket on the Internet at http://dms.dot.gov or in person at the Docket Management Facility, U.S. Department of Transportation, 400 Seventh Street SW., Nassif Building, Room PL-401, Washington, DC.

Contact Boeing Commercial Airplanes, P.O. Box 3707, Seattle, Washington 98124-2207, for service information identified in this AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747-400 and 747-400D series airplanes. That NPRM was published in the Federal Register on May 3, 2005 (70 FR 22826). That NPRM proposed to require an inspection for corrosion and cracks of the station 980 upper deck floor beam, and repair and related investigative actions if necessary.

Comments

We provided the public the opportunity to participate in the development of this AD. We have considered the comment that has been received on the NPRM.

Support for the Proposed AD

The commenter supports the NPRM.

Explanation of Change to Paragraph (f)(2)

We have revised paragraph (f)(2) of this AD to correct a typographical error that resulted in an incorrect paragraph reference.

Clarification of Alternative Methods of Compliance (AMOCs)

We have revised paragraph (h)(2) of this AD to clarify the AMOC requirements.

Clarification of Compliance Time

We have made a minor editorial change to clarify the compliance time in paragraph (f)(1) of this AD.

Conclusion

We have carefully reviewed the available data, including the comment received, and determined that air safety and the public interest require adopting the AD with the changes described previously. We have determined that these changes will neither increase the economic burden on any operator nor increase the scope of the AD.

Costs of Compliance

There are about 363 airplanes of the affected design in the worldwide fleet. The following table provides the estimated costs for U.S. operators to comply with this AD.

Estimated Costs
Action | Work hours | Average labor rate per hour | Parts | Cost per airplane | Number of U.S.-registered airplanes | Fleet cost
Inspection | 3 | $65 | None required | $195 | 46 | $8,970

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-10 Boeing: Amendment 39-14215. Docket No. FAA-2005-21088; Directorate Identifier 2004-NM-267-AD.

Effective Date

(a) This AD becomes effective September 13, 2005.

Affected ADs

(b) None.

Applicability

(c) This AD applies to Boeing Model 747-400 and 747-400D series airplanes, certificated in any category, as listed in Boeing Alert Service Bulletin 747-53A2503, dated November 11, 2004.

Unsafe Condition

(d) This AD was prompted by reports of corrosion under the cart lift threshold at the station 980 upper deck floor beam. We are issuing this AD to detect and correct such corrosion, which could result in a cracked or broken floor beam, extensive damage to adjacent structure, and possible rapid decompression of the airplane.

Compliance

(e) You are responsible for having the actions required by this AD performed within the compliance times specified, unless the actions have already been done.

Inspection

(f) At the later of the times specified in paragraphs (f)(1) and (f)(2) of this AD: Do a detailed inspection for corrosion and cracks of the station 980 upper deck floor beam, in accordance with Boeing Alert Service Bulletin 747-53A2503, dated November 11, 2004.

(1) Inspect within 120 months since the date of issuance of the original standard Airworthiness Certificate or the date of issuance of the original Export Certificate of Airworthiness; or

(2) Inspect at the time specified in paragraph (f)(2)(i), (f)(2)(ii), or (f)(2)(iii) of this AD for the applicable airplane group as identified in the service bulletin.

(i) For Group 1 airplanes: Within 18 months after the effective date of this AD.

(ii) For Group 2 airplanes: Within 36 months after the effective date of this AD.

(iii) For Group 3 airplanes: Within 120 months after the airplane has been modified in accordance with Boeing Service Bulletin 747-25-3107, or within 36 months after the effective date of this AD, whichever occurs later.

Repair

(g) If any cracking or corrosion is found during any inspection required by this AD, do all related investigative and corrective actions before further flight, in accordance with Boeing Alert Service Bulletin 747-53A2503, dated November 11, 2004. If the service bulletin specifies to contact Boeing for appropriate action, repair before further flight according to a method approved by the Manager, Seattle Aircraft Certification Office (ACO), FAA; or according to data meeting the certification basis of the airplane approved by an Authorized Representative for the Boeing Delegation Option Authorization (DOA) Organization who has been authorized by the Manager, Seattle ACO, to make those findings. For a repair method to be approved, the approval must specifically reference this AD.

Alternative Methods of Compliance (AMOCs)

(h)(1) The Manager, Seattle ACO, FAA, has the authority to approve AMOCs for this AD, if requested in accordance with the procedures found in 14 CFR 39.19.

(2) An AMOC that provides an acceptable level of safety may be used for any repair required by this AD, if it is approved by an Authorized Representative for the Boeing DOA Organization who has been authorized by the Manager, Seattle ACO, to make those findings. For a repair method to be approved, the repair must meet the certification basis of the airplane, and the approval must specifically refer to this AD.

Material Incorporated by Reference

(i) You must use Boeing Alert Service Bulletin 747-53A2503, dated November 11, 2004, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 29, 2005.
Kevin M. Mullin,
Acting Manager, Transport Airplane Directorate, Aircraft Certification Service.

[FR Doc. 05-15586 Filed 8-8-05; 8:45 am]

BILLING CODE 4910-13-P